DEPARTMENT OF THE INTERIOR

Fish and Wildlife Service

[Docket No. FWS-HQ-IA-2019-0024; FXIA16710900000-178-FF09A30000]

Endangered Species; Marine Mammals; Issuance of Permits

AGENCY: Fish and Wildlife Service, Interior.

ACTION: Notice of issuance of permits.

SUMMARY: We, the U.S. Fish and Wildlife Service, have issued the following permits to conduct certain activities with endangered species, marine mammals, or both. We issue these permits under the Endangered Species Act and the Marine Mammal Protection Act.

ADDRESSES: Information about the applications for the issued permits listed in this notice is available online at www.regulations.gov. See SUPPLEMENTARY INFORMATION for details.

FOR FURTHER INFORMATION CONTACT: Brenda Tapia, by phone at 703-358-2104, via email at DMAFR@fws.gov, or via the Federal Relay Service at 800-877-8339.

SUPPLEMENTARY INFORMATION: We, the U.S. Fish and Wildlife Service (Service), have issued permits to conduct certain activities with endangered and threatened species in response to permit applications that we received under the authority of section 10(a)(1)(A) of the Endangered Species Act of 1973, as amended (ESA; 16 U.S.C. 1531 et seq.)

After considering the information submitted with each permit application and the public comments received, we issued the requested permits subject to certain conditions set forth in each permit. For each application for an endangered species, we found that (1) the application was filed in good faith, (2) the granted permit would not operate to the disadvantage of the endangered species, and (3) the granted permit would be consistent with the purposes and policy set forth in section 2 of the ESA.

Availability of Documents

The permittees' original permit application materials, along with public comments we received during public comment periods for the applications, are available for review. To locate the application materials and received comments, go to www.regulations.gov and search for the appropriate permit number (e.g., 12345C) provided in the following tables.

Permit No. | Applicant | Permit issuance date
Endangered Species
93328C | University of Texas at Arlington | February 27, 2019.
66689C | Memphis Zoo | February 1, 2019.
86989C | Audubon Nature Institute | February 1, 2019.
90228C | Lowry Park Zoological Society of Tampa, Inc | January 31, 2019.
91602C | Dr. Viktoria Oelze, University of California Santa Cruz | January 30, 2019.
93509C | Dmitri Petrov | February 26, 2019.
78121C | Pinola Conservancy | February 26, 2019.
77865C | Maria de Lourdes Martinez Estevez | February 26, 2019.
19818A | Phoenix Herpetological Society, Inc | February 26, 2019.
Marine Mammals
75595C | ABR, Inc | March 1, 2019.

Authorities

We issue this notice under the authority of the ESA and the Marine Mammal Protection Act as amended (16 U.S.C. 1361 et seq.) and their implementing regulations.

Brenda Tapia,
Program Analyst/Data Administrator, Branch of Permits, Division of Management Authority.

[FR Doc. 2019-13790 Filed 6-27-19; 8:45 am]

BILLING CODE 4333-15-P